ENVIRONMENTAL PROTECTION AGENCY

[FRL OP-OFA-025]

Environmental Impact Statements; Notice of Availability

Responsible Agency: Office of Federal Activities, General Information 202-564-5632 or https://www.epa.gov/nepa.

Weekly receipt of Environmental Impact Statements (EIS)

Filed July 1, 2022 10 a.m. EST Through July 11, 2022 10 a.m.

EST Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220096, Final, VA, PRO, Final Programmatic Environmental Impact Statement for the Veterans Affairs Housing Loan Program, Review Period Ends: 08/15/2022, Contact: Erin Byrum 615-279-7446.

EIS No. 20220097, Draft, BOEM, Other, 2023-2028 National Outer Continental Shelf Oil and Gas Leasing Program, Comment Period Ends: 10/06/2022, Contact: Jill Lewandowski 703-787-1703.

EIS No. 20220098, Final, USFS, NM, Cibola National Forest Land Management Plan Final Environmental Impact Statement, Review Period Ends: 08/15/2022, Contact: James Turner 505-346-3814.

EIS No. 20220099, Draft Supplement, BLM, AK, Willow Master Development Plan Supplemental Environmental Impact Statement, Comment Period Ends: 08/29/2022, Contact: Stephanie Rice 907-271-3202.

Dated: July 11, 2022
Robert Tomiak,
Director, Office of Federal Activities.

[FR Doc. 2022-15155 Filed 7-14-22; 8:45 am]

BILLING CODE 6560-50-P